DEPARTMENT OF JUSTICE

[AAG/A Order No. 190-2000]

Privacy Act of 1974 as Amended by the Computer Matching in Privacy Protection Act of 1988; Computer Matching Program

This corrections notice is published in the Federal Register in accordance with the requirements of the Privacy Act, as amended by the Computer Matching and Privacy Protection Act of 1988 (CMPPA) (5 U.S.C. 552a(e)(12)). AAG/A Order No. 190-2000, published on January 27, 2000 (65 FR 4441) announced that the Immigration and Naturalization Service (INS) is participating in computer matching programs with the District of Columbia and seven State agencies, to permit eligibility determinations specified in the notice.

Paragraph Two of the notice incorrectly stated:

Specifically, the matching activities will permit the following eligibility determinations:

* * * * *

(2) The California Department of Social Services will be able to determine eligibility status for the TANF [“Temporary Assistance for Needy Families”] program and the Food Stamps program;

* * * * *

The correct version of Item (2) of Paragraph Two should read:

(2) The California Department of Social Services will be able to determine eligibility status of aliens applying for or receiving benefits under the TANF (“Temporary Assistance for Needy Families”) program and, upon the submission of favorable cost-benefit data to the DOJ Data Integrity Board, will also be able to determine eligibility status of non-TANF Food Stamp applicants and recipients;

* * * * *

Dated: February 10, 2000.
Stephen R. Colgate,
Assistant Attorney General for Administration.

[FR Doc. 00-4401 Filed 2-24-00; 8:45 am]

BILLING CODE 4410-CJ-M